DEPARTMENT OF DEFENSE

Department of the Army

Supplemental Final Environmental Impact Statement Addressing Heat and Electrical Upgrades at Fort Wainwright, Alaska

AGENCY: Department of the Army, DoD.

ACTION: Public notice.

SUMMARY: The Department of the Army (Army) is supplementing the Final Environmental Impact Statement (Final EIS) addressing heat and electrical upgrades at Fort Wainwright, Alaska. The current coal-fired central heat and power plant (CHPP) and its aging heat distribution system require an upgrade that resolves safety, resiliency, fiscal, and regulatory concerns. After publication of the Final EIS Notice of Availability (NOA) in the Federal Register on February 10, 2023, the Army determined that additional analysis is required prior to the Army executing a Record of Decision.

DATES: The Army anticipates publishing a NOA in 2025 for the Supplemental Final EIS. The public will be invited to comment on the Supplemental Final EIS.

ADDRESSES: Digital copies of the EIS documents are available online at: https://home.army.mil/wainwright/about/garrison/public-works/environmental/national-environmental-policy-act-nepa/environmental-impact-statements/Heat-and-Electrical-Upgrades-Environmental-Impact-Statement.

FOR FURTHER INFORMATION CONTACT: Mr. Grant Sattler by: regular mail at Public Affairs Office, AMIM-AKG-PA (Sattler), 1060 Gaffney Road #5900, Fort Wainwright, AK 99703-5900; telephone at (907) 353-6701; or email at alan.g.sattler.civ@army.mil.

SUPPLEMENTARY INFORMATION: Fort Wainwright is in the interior of Alaska in the Fairbanks North Star Borough. Fort Wainwright is home to U.S. Army Garrison—Alaska (USAG-Alaska) and units of the 11th Airborne Division. The soldiers, families, and civilian employees who make up the Fort Wainwright population rely on a 68-year-old coal-fired CHPP and an aged heat distribution system to heat and power more than 400 facilities. The CHPP is one of the oldest working coal-fired power plants in the United States and is operating beyond its design life. Within the last decade, the installation has experienced critical, near-catastrophic failures of the CHPP and unexpected, installation-wide outages due to maintenance, repair, and operational issues.

Unexpected outages present substantial risk to safety and to mission readiness. Constructing upgraded heat and electrical infrastructure would reduce utility costs, minimize the risk of a catastrophic failure, help safeguard mission readiness, meet energy efficiency standards, comply with emissions standards, and conform to Army-directed energy security criteria.

USAG-Alaska is proposing to upgrade its coal-fired CHPP at Fort Wainwright to a more reliable and sustainable heating and electrical system that would comply with Army installation energy security requirements and with applicable air quality standards. The purpose of the proposed action is to provide reliable heat and electrical infrastructure for the installation in order to resolve safety, resiliency, fiscal, and regulatory concerns. The Army needs to prevent the potential failure of heat and power generation and distribution. Such a failure could require evacuation of the installation and severely affect mission readiness.

The alternatives the Army is considering are: (1) construction of a new coal-fired CHPP; (2) construction of a new, dual-fuel, combustion turbine generator CHPP that would be primarily fueled by natural gas; (3) decentralization of heat and power, whereby heat would be provided by distributed natural gas boilers at facilities across the installation and electricity would be purchased from a local utility provider; and (4) continued operation of the current plant with periodic upgrades (i.e., the No-Action Alternative).

The Supplemental Final EIS will update: information regarding fuel source availability, transportation, and infrastructure requirements; information on alternative technologies; comparative greenhouse gas emissions; and socio-economic impacts. Updates regarding greenhouse gas emissions will reflect the Council on Environmental Quality's guidance on considering greenhouse gases.

The Army anticipates publishing a NOA in the Federal Register in 2025 to invite the public to comment on the Supplemental Final EIS. This process is consistent with 40 Code of Federal Regulations (CFR) 1502.9(d) and 1503.1(b), and with 32 CFR 651.5(g)(1), 651.24, and 651.45(l).

No earlier than 30 days after publication of the Supplemental Final EIS, the Army will sign a Record of Decision.

James W. Satterwhite Jr.,
Army Federal Register Liaison Officer.

[FR Doc. 2025-01757 Filed 1-24-25; 8:45 am]

BILLING CODE 3711-CC-P